DEPARTMENT OF LABOR

Employment and Training Administration

Investigations Regarding Certifications of Eligibility To Apply For NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC, provided such request if filed in writing with the Director of DTAA not later than May 6, 2002.

Also, interested persons are invited to submit written comments regarding the subject matter of the petitions to the Director of DTAA at the address shown below not later than May 6, 2002.

Petitions filed with the Governors are available for inspection at the Office of the Director, DTAA, ETA, DOL, Room C-5311, 200 Constitution Avenue, NW., Washington, DC 20210.

Signed at Washington, DC this 10th day of April 2002.
Edward A Tomchick,
Director, Division of Trade Adjustment Assistance.

Appendix
Subject firm | Location | Date received at Governor's Office | Petition No. | Articles produced
Ametek Specialty Motors (Co.) | Hudson, WI | 03/20/2002 | NAFTA-5,997 | electric motors.
Ibiden Graphite of America (Wkrs) | Portland, OR | 03/19/2002 | NAFTA-5,998 | ovens.
Flextronics Enclosure Systems (Wkrs) | Kingston, PA | 03/14/2002 | NAFTA-5,999 | enclosure cabinets.
General Electric (Wkrs) | Owensboro, KY | 03/20/2002 | NAFTA-6,000 | motors.
South Coast Lumber (Co.) | Brookings, OR | 03/19/2002 | NAFTA-6,001 | lumber.
Burlington Chemical (Co.) | Burlington, NC | 03/19/2002 | NAFTA-6,002 | textile products.
Joseph Timber (Wkrs) | Joseph, OR | 03/18/2002 | NAFTA-6,003 | lumber.
Bill Levkoff (Wkrs) | New York, NY | 01/02/2002 | NAFTA-6,004 | dresses and evening gowns.
Kayby Mills (Wkrs) | Thomasville, NC | 03/25/2002 | NAFTA-6,005 | tights and socks.
Braden Manufacturing (Co.) | Ft. Smith, AR | 03/25/2002 | NAFTA-6,006 | fabricated steel components.
Schneider Mills—Alexander Mills (Co.) | Forest City, NC | 03/25/2002 | NAFTA-6,007 | woven unfinished material.
Howmet Castings (Co.) | City of Industry, CA | 03/21/2002 | NAFTA-6,008 | aluminum castings.
Dana Corp.—Perfect Circle (UAW) | Richmond, IN | 03/25/2002 | NAFTA-6,009 | cylinder liners.
Nature's Art (Co.) | Albemarle, NC | 03/26/2002 | NAFTA-6,010 | t-shirts.
McCain Foods—Anchor Appetiser Group (Wkrs) | Appleton, WI | 04/01/2002 | NAFTA-6,011 | appetiser.
Dayton Pattern (Co.) | Dayton, OH | 03/28/2002 | NAFTA-6,012 | castings.
Amstead Corp.—American Steel Foundry (Co.) | Alliance, OR | 03/28/2002 | NAFTA-6,013 | wood/metal pattern.
Welland Chemical (Wkrs) | Newell, PA | 03/19/2002 | NAFTA-6,014 | nitric acid.
Camfil Farr (Co.) | Jonesboro, AR | 03/29/2002 | NAFTA-6,015 | eco clamps.
Wheelabrator Air Pollution Control (Co.) | Pittsburgh, PA | 03/28/2002 | NAFTA-6,016 | pollution control equipment.
Ashland Chemical (USWA) | Pittsburgh, PA | 03/28/2002 | NAFTA-6,017 | chemicals.
Johnson Controls (Wkrs) | Fulleron, CA | 03/27/2002 | NAFTA-6,018 | automotive batteries.
Lucent Technologies (IBEW) | Oklahoma City, OK | 01/03/2002 | NAFTA-6,019 | telephone switching equipment.
A. Stucki Company (USWA) | Pittsburgh, PA | 03/28/2002 | NAFTA-6,020 | rail cars.
Aspen Trailer (Wkrs) | Litchfield, MN | 03/19/2002 | NAFTA-6,021 | heavy haul trailers.
Mototola (Wkrs) | Mesa, AZ | 03/25/2002 | NAFTA-6,022 | pressure sensors.
Aerocell Structures Adirison (Wkrs) | Hot Springs, AR | 03/26/2002 | NAFTA-6,023 | airplane parts.
ITT Industries—ITT Cannon Switch (Wkrs) | Eden Prairie, MN | 03/26/2002 | NAFTA-6,024 | electronic control, panels and switches.
Imation—Kodak Polychrome Grapics (Wkrs) | Oakdale, MN | 03/22/2002 | NAFTA-6,025 | data storage.
Portland Pattern (Co.) | Portland, OR | 03/05/2002 | NAFTA-6,026 | aluminum molds.
ILD Lantis-Container Pallent Loader (Wkrs) | Salinas, CA | 03/26/2002 | NAFTA-6,027 | container pallent loaders.
L and A Molding (Co.) | Lewiston, ME | 03/28/2002 | NAFTA-6,028 | injection molded footwear.
T and T Land and Timber (Co.) | Rexford, MT | 04/02/2002 | NAFTA-6,029 | timber.
Schlumberger Limited (Wkrs) | Sugarland, TX | 04/01/2002 | NAFTA-6,030 | oil and gas.
H.J. Seagroa (Co.) | Berlin, NY | 03/19­/2002 | NAFTA-6,031 | cut roses and flowers.
Ameripol Synpol (Wkrs) | Odessa, TX | 04/08/2002 | NAFTA-6,032 | synthetic rubber.
Sanmina (Co.) | Carrollton, TX | 04/05/2002 | NAFTA-6,033 | electronic cable assemblies.
Alcatel (Wkrs) | Ogdensburg, NY | 02/27/2002 | NAFTA-6,034 | customer service.
Motorola-ACES Group (Co.) | Elma, NY | 02/21/2002 | NAFTA-6,035 | printed circuit boards.
Siemens VDO Automotive (Wkrs) | Auburn, IN | 04/05/2002 | NAFTA-6,036 | automotive instrument.
Toro Company (The)(Co.) | Riverside, CA | 04/04/2002 | NAFTA-6,037 | irrigation equipment.
Birdair (Co.) | Amherst, NY | 03/13/2002 | NAFTA-6,038 | tensioned membrane roof systems.
Tredegar Film Products (Wkrs) | Carbondale, PA | 04/08/2002 | NAFTA-6,039 | plastic film.
Kaijay (UNITE) | Nesquehoning, PA | 04/08/2002 | NAFTA-6,040 | jeans.
Rohm and Haas (Wkrs) | Philadelphia, PA | 04/08/2002 | NAFTA-6,041 | water purification products.
American Fashion (UNITE) | Chula Vista, CA | 04/01/2002 | NAFTA-6,042 | men's suits.
Contract Embroidery (Wkrs) | El Paso, TX | 04/08/2002 | NAFTA-6,043 | embroidery.
Hontsman Petro Chemicals (Wkrs) | Odessa, TX | 04/08/2002 | NAFTA-6,044 | shipping and receiving rail cars.
BBA Nonwovens Simpsonville (PACE) | Lewisburg, PA | 04/08/2002 | NAFTA-6,045 | apparel materials.
Mid Western Machinery (Co.) | Joplin, MO | 04/05/2002 | NAFTA-6,046 | pneumatic rock drills.
TRW, Inc. (Co.) | Cleveland, OH | 04/04/2002 | NAFTA-6,047 | engine values.
McKechnie Tooling and Engineering (Co.) | Staples, MN | 04/04/2002 | NAFTA-6,048 | plastic injection molds.
Jacobs Sverdrup (Co.) | Amherst, NY | 02/15/2002 | NAFTA-6,049 | automotive air conditioner.
NAS Interplex (Wkrs) | Flushing, NY | 02/28/2002 | NAFTA-6,050 | electronics connectors.
Mac Specialties (Co.) | Oceanside, NY | 02/11/2002 | NAFTA-6,051 | foam.
Burrows Paper (Wkrs) | Little Falls, NY | 04/04/2002 | NAFTA-6,052 | food containers.
Federal Pipe and Steel (Wkrs) | Blytheville, AR | 04/01/2002 | NAFTA-6,053 | steel.
Guilford Mills (Wkrs) | Cobleskill, NY | 01/14/2002 | NAFTA-6,054 | apparel fabric.
C and W Fabrication (Wkrs) | Gardner, MA | 04/05/2002 | NAFTA-6,055 | gas tubrines.
Oetiker (Co.) | Livingston, NJ | 03/25/2002 | NAFTA-6,056 | hose clamps.
Chicago Mold and Engineering (Co.) | St. Charles, IL | 04/01/2002 | NAFTA-6,057 | plastic injection machines.
Walls Industrial (Wkrs) | Cleburne, TX | 04/03/2002 | NAFTA-6,058 | outerwear, jackets and overalls.
New Images (Wkrs) | Reidsville, NC | 04/01/2002 | NAFTA-6,059 | clothing.
Mitsubishi Silicon (Wkrs) | Dallas, OR | 03/29/2002 | NAFTA-6,060 | silicon wafers.
Owens Brigam Medical (Wkrs) | Morganton, NC | 04/01/2002 | NAFTA-6,061 | disposable anesthesia & respiratory.
Parkdale America (Wkrs) | Kings Mountain, NC | 04/01/2002 | NAFTA-6,062 | yarn.
Celestica (Co.) | Westminster, Co | 04/03/2002 | NAFTA-6,063 | printed circuit asemblies.

[FR Doc. 02-10058 Filed 4-23-02; 8:45 am]

BILLING CODE 4510-30-M